EXPORT-IMPORT BANK OF THE U.S.

[Public Notice 2011-0051]

Agency Information Collection Activities: Final Collection; Comment Request

AGENCY: Export-Import Bank of the U.S.

ACTION: Submission for OMB review and comments request.

Form Title: Report of Overdue Accounts Under Short-Term Policies EIB 92-27.

SUMMARY: The Export-Import Bank of the United States (Ex-Im Bank), as a part of its continuing effort to reduce paperwork and respondent burden, invites the general public and other Federal Agencies to comment on the proposed information collection, as required by the Paperwork Reduction Act of 1995.

The collection provides Ex-Im Bank staff with the information necessary to monitor the borrower's payments for exported goods covered under its short and medium-term export credit insurance policies. It also alerts Ex-Im Bank staff of defaults, so they can manage the portfolio in an informed manner.

Form can be viewed at http://www.exim.gov/pub/pending/EIB92_27.pdf.

DATES: Comments should be received on or before May 16, 2011 to be assured of consideration.

ADDRESSES: Comments maybe submitted electronically on http://www.regulations.gov or by mail to Michele Kuester, Export-Import Bank of the United States, 811 Vermont Ave., NW., Washington, DC 20571.

SUPPLEMENTARY INFORMATION: Titles and Form Number: EIB 92-27. Report of Overdue Accounts Under Short-Term Policies.

OMB Number: 3048-0027.

Type of Review: Regular.

Need and Use: The collection provides Ex-Im Bank staff with the information necessary to monitor the borrower's payments for exported goods covered under its short- and medium-term export credit insurance policies. It also alerts Ex-Im Bank staff of defaults, so they can manage the portfolio in an informed manner.

Affected Public: This form affects entities involved in the export of U.S goods and services.

Annual Number of Respondents: 396.

Estimated Time per Respondent: 15 minutes.

Government Annual Burden Hours: 33 hours.

Frequency of Reporting or Use: Monthly.

Sharon A. Whitt,
Agency Clearance Officer.

[FR Doc. 2011-5941 Filed 3-14-11; 8:45 am]

BILLING CODE 6690-01-P